MISSISSIPPI RIVER COMMISSION

Sunshine Act Meetings

Agency Holding the Meetings: Mississippi River Commission.

Time and Date: 9 a.m., April 16, 2007.

Place: On board MISSISSIPPI V at City Front, Caruthersville, MO.

Status: Open to the public.

Matters to be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or projects of the Commission and the Corps of Engineers.

Time and Date: 9 a.m., April 17, 2007.

Place: On board MISSISSIPPI V at Mud Island, Memphis, TN.

Status: Open to the public.

Matters to be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or projects of the Commission and the Corps of Engineers.

Time and Date: 1 p.m., April 19, 2007.

Place: On board MISSISSIPPI V at Fulton Street Landing, Natchez, MS.

Status: Open to the public.

Matters to be Considered: (1) Summary report by President of the Commission on national and regional issues affecting the U.S. Army Corps of Engineers and Commission programs and projects on the Mississippi River and its tributaries; (2) District Commander's overview of current project issues within the Vicksburg District, and (3) Presentations by local organizations and members of the public giving views or comments on any issue affecting the programs or projects of the Commission and the Corps of Engineers.

Time and Date: 9 a.m., April 20, 2007.

Place: On board MISSISSIPPI V at City Dock, Baton Rouge, LA.

Status: Open to the public.

Matters to be Considered: (1) Summary report by President of the Commission on national and regional issues affecting the U.S. Army Corps of Engineers and Commission programs and projects on the Mississippi River and its tributaries; (2) District Commander's overview of current project issues within the New Orleans District; and (3) Presentations by local organizations and members of the public giving views or comments on any issue affecting the programs or of the Commission and the Corps of Engineers.

Contact Person for More Information: Mr. Stephen Gambrell, telephone 601-634-5766.

Brenda S. Bowen,
Army Federal Register Liaison Officer.

[FR Doc. 07-849 Filed 2-21-07; 11:54 am]

BILLING CODE 3710-GX-M